DEPARTMENT OF AGRICULTURE

Forest Service

Proposed New Recreation Fees: George Washington and Jefferson National Forests

AGENCY: Forest Service, USDA.

ACTION: Notice of proposed new recreation fees.

SUMMARY: The George Washington and Jefferson National Forests is proposing to charge new fees at three recreation sites. Recreation fees are assessed based on the level of amenities and services provided, cost of operation and maintenance, analysis of other providers, and public comment. The fees listed are only proposed and will be determined upon further analysis and public comment. Funds from fees would be used for the continued operations of these campgrounds, maintenance, and improvements.

DATES: Comments on the fee changes will be accepted through October 15, 2019. The fees will become available pending a recommendation from the Southern Region Recreation Resource Advisory Committee. If approved by the Regional Forester, implementation of new fees will occur no sooner than 180 days from the date of publication in the Federal Register.

ADDRESSES: Written comments concerning this notice should be addressed to the Supervisor's Office at: Joby P. Timm, Forest Supervisor, George Washington and Jefferson National Forests, 5162 Valleypointe Parkway, Roanoke, VA 24019, Attention Recreation Fee Coordinator.

FOR FURTHER INFORMATION CONTACT: Ginny Williams, Recreation Fee Coordinator, 540-265-5166. Information about proposed fee changes can also be found on the George Washington and Jefferson National Forests website: https://www.fs.usda.gov/gwj.

SUPPLEMENTARY INFORMATION: Under the proposed new fee structure, Little Fort, The Pines and Wolf Gap Campgrounds will be available for overnight camping for a fee. An analysis of campgrounds with similar amenities in the areas surrounding these recreation sites indicates that the proposed fees of $12 to $14 per night are comparable and reasonable.

All three campgrounds offer designated campsites with a parking spur, tent pad, picnic table and fire ring with cooking grill. The campgrounds each have at least one information kiosk, vault toilet building, interior gravel or paved campground road, and informational signs. The Pines Campground has trash receptacles and trash removal service. Campers are responsible for removing their trash from Little Fort and Wolf Gap Campgrounds. Currently, none of the campgrounds offer drinking water.

All three of these campgrounds offer direct access to several outdoor recreation opportunities. Little Fort is adjacent to a motorized trail system and near non-motorized trails and a mountaintop observation tower. Wolf Gap Campground on the Virginia/West Virginia border offers access to several highly popular non-motorized trails. The Pines Campground is located adjacent to a challenging four-wheel drive road on one side and the designated Barbour's Creek Wilderness on another. A stocked trout stream runs by The Pines as well. Recreation fees would be combined with other funds to support continued operations and maintenance of these campgrounds that support visitor enjoyment of national forest recreation opportunities.

Currently all three campgrounds are fee free recreation sites. A camping fee of $12 to $14 per site per night would be required. Additional amenities are proposed for the facilities including establishing a host campsite at The Pines, repairing the water system and reintroducing drinking water at The Pines and at Wolf Gap, and rehabilitating campsites and the interior campground road at Little Fort. Site features such as picnic tables, signs, and information kiosks will be repaired or replaced as needed.

The Federal Recreation Lands Enhancement Act (Title VII, Pub. L. 108-447) directed the Secretary of Agriculture to publish a six-month notice in the Federal Register whenever new recreation fee areas are established.

Once public involvement is complete, these new fees will be reviewed by the Southern Region Recreation Resource Advisory Committee prior to a final decision and implementation. These sites have all the required features to allow a fee to be charged. Those features include designated parking area, interpretive information and signing, permanent toilets, increased patrols, picnic table, and trash services. These standard amenity fee sites will honor the full suite of Interagency Passes.

Once public involvement is complete, these new fees will be reviewed by the Southern Region Recreation Resource Advisory Committee prior to a final decision and implementation.

Dated: August 29, 2019.
Richard A. Cooksey,
Acting Associate Deputy Chief, National Forest System.

[FR Doc. 2019-21164 Filed 9-27-19; 8:45 am]

BILLING CODE 3411-15-P